DEPARTMENT OF DEFENSE

Department of the Navy

[Docket ID: USN-2020-HQ-0004]

Proposed Collection; Comment Request

AGENCY: The Office of the Secretary of the Navy, Defense Department (DoD).

ACTION: Information collection notice.

SUMMARY: In compliance with the Paperwork Reduction Act of 1995, the Department of the Navy announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 15, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the MyNavy Career Center, Naval Support Activity Mid-South, ATTN: CAPT Laura Scotty, 5720 Integrity Drive, Millington, TN 38053, (901) 874-2070.

SUPPLEMENTARY INFORMATION: Title; Associated Form; and OMB Number: MyNavy Career Center Omni-Channel Telephony System; OMB Control Number 0703-XXXX.

Needs and Uses: The information collection requirement is necessary to obtain unique personally identifiable information such as DoD ID or SSN to positively identify individuals who contact MyNavy Career Center regarding a variety of questions.

Affected Public: Individuals or households.

Annual Burden Hours: 2,268 hours.

Number of Respondents: 16,799.

Responses per Respondent: 1.

Annual Responses: 16,799.

Average Burden per Response: 8.1 minutes (0.135 hours).

Frequency: On occasion.

Respondents are family members of active, retired and reserve members and members of the public with no military affiliation. The Omni-Channel telephone system will record caller transactions to support transaction accuracy, provide training opportunities to customer service representatives and provide actionable data for business process improvements.

Dated: July 13, 2020.
Aaron T. Siegel,
Alternate OSD Federal Register, Liaison Officer, Department of Defense.

[FR Doc. 2020-15458 Filed 7-16-20; 8:45 am]

BILLING CODE 5001-06-P